FEDERAL COMMUNICATIONS COMMISSION

Radio Broadcasting Services; AM or FM Proposals To Change the Community of License

AGENCY: Federal Communications Commission.

ACTION: Notice.

SUMMARY: The following applicants filed AM or FM proposals to change the community of license: APEX BROADCASTING, INC., Station WAVF, Facility ID 13890, BPH-20070705ADU, From HANAHAN, SC, To FORESTBROOK, SC; BOND BROADCASTING INC., Station WGEL, Facility ID 6343, BPH-20070619AAL, From GREENVILLE, IL, To TRENTON, IL; BRAD MAURICE COTHRAN, Station WXTN, Facility ID 27486, BP-20070702CUL, From LEXINGTON, MS, To BENTON, MS; CHAPARRAL BROADCASTING, INC., Station KLZY, Facility ID 164113, BMPH-20070615ACW, From HONOKAA, HI, To PAIA, HI; COUNTRY MOUNTAIN AIRWAVES, LLC, Station KQAZ, Facility ID 17391, BPH-20070611AHV, From SPRINGERVILLE, AZ, To PINETOP, AZ; EDUCATIONAL MEDIA FOUNDATION, Station WPLX, Facility ID 52906, BMP-20070703ABC, From GERMANTOWN, TN, To TURRELL, AR; ELECTRONIC APPLICATIONS RADIO SERVICES, Station WLHN, Facility ID 1724, BP-20070521ABD, From MUNCIE, IN, To ARLINGTON, IN; GOOD SAMARITAN EDUCATIONAL RADIO, INC., Station WKJD, Facility ID 86545, BMPED-20070116AAK, From COLUMBUS, IN, To NASHVILLE, IN; GOOD SHEPHERD RADIO INC., Station WXVW, Facility ID 90853, BMPED-20070327ABD, From VEEDERSBURG, IN, To DANVILLE, IL; GREAT LAKES RADIO, INC., Station WRUP, Facility ID 41825, BPH-20070619AAN, From MUNISING, MI, To PALMER, MI; J. L. BREWER BROADCASTING OF CLEVELAND, LLC, Station WHJK, Facility ID 66956, BPH-20070629BXS, From CLEVELAND, TN, To OOLTEWAH, TN; KONA COAST RADIO, LLC, Station NEW, Facility ID 170962, BNPH-20070502AHA, From STRATTON, CO, To ORDWAY, CO; MARATHON MEDIA GROUP, L.L.C., Station KLPW-FM, Facility ID 70301, BPH-20070614ADU, From UNION, MO, To ELSBERRY, MO; MILLER COMMUNICATIONS, INC., Station WWBD, Facility ID 6634, BPH-20070705ADV, From BAMBERG, SC, To ISLE OF PALMS, SC; MULTICULTURAL RADIO BROADCASTING LICENSEE, LLC, Station WNYG, Facility ID 5208, BP-20070601BDE, From BABYLON, NY, To MEDFORD, NY; NM LICENSING LLC, Station WKZQ-FM, Facility ID 24776, BPH-20070705ADT, From MYRTLE BEACH, SC, To HANAHAN, SC; THE RAFTT CORPORATION, Station KTON, Facility ID 60091, BP-20070607AAO, From BELTON, TX, To LANCASTER, TX; WAY-FM MEDIA GROUP, INC., Station KRYI, Facility ID 87410, BMPED-20070620ABW, From RYE, CO, To TRINIDAD, CO; WHITE PARK BROADCASTING, INC., Station KHNA, Facility ID 166001, BMPH-20070117AFI, From HANNA, WY, To ROCK RIVER, WY; WHITE PARK BROADCASTING, INC., Station KXMP, Facility ID 166000, BMPH-20070622ABG, From HANNA, WY, To NORTH ROCK SPRINGS, WY; WHITE PARK BROADCASTING, INC., Station KYPT, Facility ID 166004, BMPH-20070628ACH, From WAMSUTTER, WY, To CLEARVIEW ACRES, WY.

DATES: Comments may be filed through October 9, 2007.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. E7-15369 Filed 8-7-07; 8:45 am]

BILLING CODE 6712-01-P